DEPARTMENT OF AGRICULTURE

Forest Service

RIN 0596-AB90

Roadless Area Protection

AGENCY: Forest Service, USDA.

ACTION: Notice of issuance of agency interim directive.

SUMMARY: The Forest Service is reinstating interim directive (ID) 1920-2001-1 (issued Dec. 14, 2001, and expired June 14, 2003) for the management of inventoried roadless areas. The reinstated ID, now numbered ID 1920-2004-1, is intended to provide guidance for addressing road and timber management activities in inventoried roadless areas until land and resource management plans are amended or revised. The ID has been reinstated to the Forest Service Manual (FSM) Chapter 1920, Land Management Planning.

DATES: This interim directive is effective July 16, 2004.

ADDRESSES: ID 1920-2004-1 is available electronically from the Forest Service via the World Wide Web/Internet at http://www.fs.fed.us/im/directives. Single paper copies of the interim directive are also available by contacting the Director, Ecosystem Management Coordination Staff, Forest Service, USDA, Mail Stop 1104, 1400 Independence Ave., SW., Washington, DC 20250-1104, or by facsimile to (202) 205-1012.

FOR FURTHER INFORMATION CONTACT: Dave Barone, Planning Specialist, Ecosystem Management Coordination Staff, Forest Service (202) 205-1019.

SUPPLEMENTARY INFORMATION: The Forest Service is reinstating an interim directive (ID) to Forest Service Manual (FSM) chaper 1920 to provide guidance for the protection and management of inventoried roadless areas. The ID was originally published for comment on August 22, 2001 (66 FR 44111), and a revised ID was published for comment on December 20, 2001 (66 FR 65801). The December 2001 ID expired on June 14, 2003. This action reinstates the administrative policy that, until a land management plan is revised or an amendment is adopted that considers their protection and mangement, inventoried roadless areas shall, as a general rule, be managed to preserve their roadless characteristics. This ID also reinstates the reservation of authority to the Chief to make decisions affecting inventoried roadless areas, except in specific circumstances that generally are consistent with the exceptions in the set aside Roadless Area Conservation Rule (Roadless Rule) (36 CFR part 294), involving: (1) Road construction or road reconstruction until a forest-scale roads analysis is completed and incorporated into a forest plan, or until a determination is made that an amendment to the plan is not necessary; and (2) the cutting, sale, or removal of timber until a revision of a forest plan or adoption of a plan amendment that has considered the protection and management of inventoried roadless areas.

The reinstated ID makes two changes to the direction previously issued on December 14, 2001, in ID No. 1920-2001-1. The first change is in the Policy section at FSM 1925.03 where a statement has been added that allows the Chief to grant project-specific exceptions to the reservations of authority set out in the ID. This addition is being made to to give the Chief the flexibility to exercise discretion, on a case-by-case basis, when a Forest Supervisor or a Regional Forester requests, for good cause, that the decision authority not be reserved. The second change is at FSM 1925.04b to the authority and the responsibility of the Regional Forester for decisions on a road construction or road reconstruction project in an inventoried roadless area. This section has been revised to include all lands associated with any mineral lease, license, permit or approval issued for mineral leasing operations. This adjustment was made in order to eliminate the confusion concerning the minerals leasing program in inventoried roadless areas which involve protracted, staged decisionmaking, as well as in consideration of the interests set forth in the National Energy Plan.

There have been nine lawsuits filed in six judicial districts and four Federal circuits challenging the Roadless Rule. On May 10, 2001, the U.S. District Court for the District of Idaho issued a preliminary injunction order enjoining the Department from implementing the Roadless Rule. That order was reversed by the U.S. Court of Appeals for the Ninth Circuit. On July 14, 2003, the U.S. District Court for the District of Wyoming issued a permanent injunction order enjoining the Department from implementing the Roadless Rule. That ruling has been appealed. The roadless management ID was originally issued to provide interim protections for inventoried roadless areas because of the legal uncertainty surrounding the implementation of the Roadless Rule. There continues to be uncertainty as legal proceedings are ongoing and the ultimate outcome is far from certain. In addition, the Department of Agriculture has announced its intentions to proceed with a new rulemaking addressing inventoried roadless area management. The Forest Service is not yet prepared to adopt a final policy, and feels that reinstating the interim policy is the best course of action at this time.

The agency believes that the interim policy contained in the ID provides stability to roadless area management and appropriate protection of roadless values in inventoried roadless areas.

Dated: July 12, 2004.
Dale N. Bosworth,
Chief.

[FR Doc. 04-16192 Filed 7-15-04; 8:45 am]

BILLING CODE 3410-11-P